DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from January 19 to January 23, 2009.

For further information, please contact Edson Beall via: United States Postal Service mail, at the National Register of Historic Places, 2280, National Park Service, 1849 C St., NW., Washington, DC 20240; in person (by appointment), 1201 Eye St., NW., 8th floor, Washington DC 20005; by fax, 202-371-2229; by phone, 202-354-2255; or by e-mail, Edson_Beall@nps.gov.

Dated: March 3, 2009.
J. Paul Loether,
Chief, National Register of Historic Places/National Historic Landmarks Program.

Key: State, County, Property Name, Address/Boundary, City, Vicinity, Reference Number, Action, Date, Multiple Name.

ALABAMA

Montgomery County

Tankersley Rosenwald School, 10 mi. S. on Montgomery on US 31 to Pettus Rd. to School Spur on W. side, Hope Hull vicinity, 08001332, Listed, 1/22/09 (The Rosenwald School Building Fund and Associated Buildings MPS).

ARIZONA

Maricopa County

Myrtle Avenue Residential Historic District, 6305-6423 W. Myrtle Ave., Glendale, 08001345, Listed, 1/22/09.

Pinal County

Evergreen Addition Historic District, Generally bounded by McMurray Blvd., Gilbert Ave., Florence Blvd., and Casa Grande Ave., Casa Grande, 08001346, Listed, 1/22/09.

ARKANSAS

Cleburne County

Disfarmer, Mike Meyer, Gravesite, In the Heber Springs Cemetery at the NR corner of Oak St., and S. 4th St., Heber Springs, 08001335, Listed, 1/21/09.

Conway County,

Earl Building, 201 N. St. Joseph St., Morrilton, 08001336, Listed, 1/22/09 (Arkansas Highway History and Architecture MPS).

Drew County

Ridgeway Hotel Historic District, 200-206 East Gaines St., Monticello, 08000952, Listed, 1/22/09.

Fulton County

AR 289 Bridge Over English Creek, AR289 over English Creek, Mammoth Spring vicinity, 08001338, Listed, 1/22/09 (Historic Bridges of Arkansas MPS).

Hempstead County

Southwestern Proving Ground Building No. 4, 259 Hempstead Co. Rd. 279, Hope vicinity, 08001339, Listed, 1/22/09 (World War II Home Front Efforts in Arkansas, MPS).

Nevada County

Ephesus Cemetery, ¼ mi. N. of Emmet on US 67, Emmet vicinity, 08001340, Listed, 1/22/09.

Pope County

Little Rock to Cantonment Gibson Rd—Fourth Street Segment, 4th St., between Union Grove and Blackland Sts., Atkins vicinity, 08001342, Listed, 1/22/09 (Cherokee Trail of Tears MPS).

Pulaski County

Block 35 Cobblestone Alley, W. of the N. end of Rock St., Little Rock, 08001343, Listed, 1/22/09.

Pulaski County

West 7th Street Historic District, Portions of 800-1100 blocks of W. 7th St., Little Rock, 08001341, Listed, 1/21/09.

Washington County

Illinois River Bridge at Phillips Ford, Co. Rd. 848 over the Illinois River, Savoy vicinity, 08001344, Listed, 1/22/09 (Historic Bridges of Arkansas MPS).

CALIFORNIA

Amador County

Kennedy Mine Historic District, 12594 Kennedy Mine Rd., Jackson vicinity, 08001347, Listed, 1/22/09.

KANSAS

Cloud County

Clyde School, 620 Broadway St., Clyde, 08001348, Listed, 1/22/09 (Public Schools of Kansas MPS).

Dickinson County

Wilson Pratt Truss Bridge, 2.9 m. W. of Rain Rd. on 3200 Ave., Chapman vicinity, 08001349, Listed, 1/22/09 (Metal Truss Bridges in Kansas 1861—1939 MPS).

Riley County

Persons Barn and Granary, 2103 Hwy. 18, Manhattan, 08001351, Listed, 1/22/09 (Agriculture-Related Resources of Kansas).

Rush County

Lone Star School, District 64, RR, 1¼ m. W. of Bison Ave., M., Bison vicinity, 08001352, Listed, 1/22/09 (Public Schools of Kansas MPS).

Shawnee County

Shoemaker, J.A., House, 1434 SW. Pass Ave., Topeka, 08001354, Listed, 1/22/09.

MAINE

Aroostook County

Lagassey Farm, 786 Main St., Saint Agatha, 08001356, Listed, 1/21/09.

Androscoggin County

Main Street-Frye Street Historic District, Frye St., and portions of Main St. and College St., Lewiston, 08001355, Listed, 1/23/09.

Somerset County

Kromberg Barn, E. side of E. Pond Rd., across from number 462, Smithfield, 08001357, Listed, 1/22/09.

Washington County

Plummer, Capt. John, House, 23 Pleasant St., Addison, 08001358, Listed, 1/21/09.

MISSOURI

Jackson County

1901 McGee Street Automotive Service Building, 1901-1907 McGee St., Kansas City, 08001359, Listed, 1/22/09.

NORTH CAROLINA

Buncombe County

Smith, Richard Sharp, House, 655 Chunns Cove Rd., Asheville, 08001361, Listed, 1/22/09.

Forsyth County

Old Richmond Schoolhouse and Gymnasium, 6315 and 6375 Tobaccoville Rd., Tobaccoville vicinity, 08001362, Listed, 1/21/09.

Harnett County

Harrington-Dewar House, 994 Fred Burns Rd., Holly Springs vicinity, 08001363, Listed, 1/23/09.

Mecklenburg County

Kilgo, Bishop John C., House, 2100 The Plaza, Charlotte, 08001364, Listed, 1/22/09.

Mecklenburg County

Robinson Rock House Ruin and Plantation Site, Reedy Creek Park—2900 Rocky River Rd., Charlotte, 08001365, Listed, 1/22/09.

Polk County

Mill Farm Inn, 701 Harmon Field Rd., Tryon vicinity, 08001366, Listed, 1/22/09.

NORTH DAKOTA

Richland County

Fort Abercrombie, Richland Co. Rte. 4, Abercrombie vicinity, 08001367, Listed, 1/22/09.

OHIO

Fairfield County

Fairfield County Children's Home, 1743 E. Main St., Lancaster, 08001196, Listed, 12/22/08.

OREGON

Lane County

Willakenzie Grange Hall, 3055 Willakenzie Rd., Eugene, 08001368, Listed, 1/22/09.

SOUTH CAROLINA

Newberry County

Hannah Rosenwald School, 61 Deadfall Rd., Newberry vicinity, 08001369, Listed, 1/22/09 (Rosenwald School Building Program in South Carolina, 1917-1932).

WASHINGTON

King County

Messenger of Peace Chapel Car, 38625 SE. King St., Snoqualmie, 08000998, Listed, 1/21/09.

WISCONSIN

Columbia County

Robertson, John A. and Martha, House, 456 Seminary St., Lodi, 08001370, Listed, 1/22/09.

[FR Doc. E9-4831 Filed 3-6-09; 8:45 am]

BILLING CODE 4310-70-P